DEPARTMENT OF HEALTH AND HUMAN SERVICES

Centers for Disease Control and Prevention

Conceptual Discussions for Full Facepiece Air-Purifying Respirators (APR) Standards and Air-Purifying Escape Respirator Standards Development Efforts for Respiratory Protection Against Chemical, Biological, Radiological and Nuclear (CBRN) Agents

The National Institute for Occupational Safety and Health (NIOSH) of the Centers for Disease Control and Prevention (CDC) announces the following meeting.

Name: Conceptual Discussions for full facepiece Air-Purifying Respirators (APR) Standards and Air-Purifying Escape Respirator Standards Development Efforts for Respiratory Protection Against Chemical, Biological, Radiological and Nuclear (CBRN) Agents.

Times and Dates: 1 p.m.-5 p.m., October 16, 2002.

8:30 a.m.-5 p.m., October 17, 2002.

Place: Hilton Garden Inn, 1000 Corporate Drive, Canonsburg, Pennsylvania.

Status: This meeting is hosted by NIOSH. The meeting will be open to the public, limited only by the space available. Interested parties should make hotel reservations directly with the Hilton, referencing the National Personal Protective Technology Laboratory Booking. Interested parties should confirm their attendance by either emailing their intention to attend to respcert@cdc.gov, or by contacting NIOSH at (412) 386-4000.

Requests to make presentations at the public meeting should be mailed to the NIOSH Docket Officer, Robert A. Taft Laboratories, M/S C34, 4676 Columbia Parkway, Cincinnati, Ohio 45226, telephone (513) 533-8303, fax (513) 533-8285, or e-mailed to NIOCINDOCKET@CDC.GOV. All requests to present should contain the name, address, telephone number, and relevant business affiliations of the presenter, a brief summary of the presentation, and the approximate time requested for the presentation. Oral presentations should be limited to 15 minutes. After reviewing the requests for presentations, NIOSH will notify each presenter of the approximate time that their presentation is scheduled to begin. If a participant is not present when their presentation is scheduled to begin, the remaining participants will be heard in order. At the conclusion of the meeting, an attempt will be made to allow presentations by any scheduled participants who missed their assigned times. Attendees who wish to speak but did not submit a request for the opportunity to make a presentation may be given this opportunity at the conclusion of the meeting, at the discretion of the presiding officer.

Comments on the topics presented in this notice and at the meeting should be mailed to the NIOSH Docket Office, Robert A. Taft Laboratories, M/S C34, 4676 Columbia Parkway, Cincinnati, Ohio 45226, telephone 513-533-8303, fax 513/533-8285. Comments may also be submitted by e-mail to: NIOCINDOCKET@CDC.GOV. e-mail attachments should be formatted as WordPerfect 6/7/8/9, or Microsoft Word. Comments should be submitted to NIOSH no later than November 15, 2002, and should reference docket number, NIOSH-002, in the subject heading.

Purpose: The purpose of the meeting is to continue conceptual discussions for full face piece APR CBRN standards and review research efforts to identify stimulant materials for use as CBRN test surrogates for respirator research and development efforts; and to initiate discussion of concepts being considered for CBRN air-purifying escape respirator standards. NIOSH, along with the U.S. Army Soldier and Biological Chemical Command (SBCCOM) and the National Institute for Standards and Technology (NIST), will present information to attendees concerning the concept development of the APR CBRN standards, as well as concepts being considered for the air-purifying escape respirator CBRN standards. Participants will be given an opportunity to ask questions and to present individual comments for consideration. Interested participants may obtain the latest copies of the APR CBRN and air-purifying escape respirator CBRN concept papers, as well as earlier versions of the concept papers used during the standards development effort, from the NIOSH contact identified below, or from the NIOSH National Personal Protective Technology Laboratory Web site, address: http://www.cdc.gov/niosh/npptl. The September 16, 2002, APR CBRN concept paper will be used as the basis for discussion at the public meeting, as well as forming the basis for the new APR CBRN statement of standards.

Recent acts of terrorism have created an urgent awareness of domestic security and preparedness issues. Municipal, states, and federal responder groups, particularly those in locations considered potential targets, have been developing and modifying response and consequence management plans. Since the World Trade Center and anthrax incidents, most emergency response agencies have operated with a heightened appreciation of the potential scope and sustained resources requirements for coping with such events. The Federal Interagency Board for Equipment Standardization and Interoperability (IAB) has worked to identify personal protective equipment that is already available on the market for responders' use. The IAB has identified the development of standards or guidelines for respiratory protection equipment as a top priority. NIOSH, NIST, the National Fire Protection Association and the Occupational Safety and Health Administration have entered into a Memorandum of Understanding defining each agency or organization's role in developing, establishing, and enforcing standards or guidelines for responders' respiratory protective devices. NIST has initiated Interagency Agreements with NIOSH and SBCCOM to aid in the development of appropriate protection standards or guidelines. NIOSH has the lead in developing standards or guidelines to test, evaluate and approve respirators.

NIOSH, SBCCOM, and NIST have hosted public meetings on June 18 and 19, 2002, and April 17 and 18, 2001, presenting their progress in assessing respiratory protection needs of responders to CBRN incidents. The methods or models for developing hazard and exposure estimates, and the status in evaluating test methods and performance standards that may be applicable as future CBRN respirator standards or guidelines were discussed at these meetings. On December 28, 2001, NIOSH announced standards for the evaluation and approval of self-contained breathing apparatus to protect emergency responders against CBRN agents. NIOSH, SBCCOM, and NIST are in the process of developing CBRN respiratory protection standards and guidelines for full facepiece APR and air-purifying escape respirators, as well as other classes of respirators. The October 16 and 17, 2002, public meeting will continue conceptual discussions for the CBRN APR, as well as introduce concepts being considered for the CBRN air-purifying escape respirators.

Contact Persons for Additional Information: Mr. Jonathan Szalajda, NIOSH, PO Box 18070, 626 Cochrans Mill Road, Pittsburgh, PA 15236, telephone (412) 386-6627, fax (412) 386-6747 and/or e-mail: respcert@cdc.gov.

The Director, Management Analysis and Services Office, has been delegated the authority to sign Federal Register Notices pertaining to announcements of meetings and other committee management activities, for both the Centers for Disease Control and Prevention and the Agency for Toxic Substances and Disease Registry.

Dated: September 23, 2002.
John Burckhardt,
Acting Director, Management Analysis and Services Office, Centers for Disease Control and Prevention.

[FR Doc. 02-24578 Filed 9-26-02; 8:45 am]

BILLING CODE 4163-18-P